ENVIRONMENTAL PROTECTION AGENCY

[EPA-HQ-OAR-2003-0052; FRL-8704-3]

Agency Information Collection Activities; Proposed Collection; Comment Request; Risk Management Program Requirements and Petitions To Modify the List of Regulated Substances Under Section 112(r) of the Clean Air Act (CAA).; EPA ICR No. 1656.13; OMB Control No. 2050-0144

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on January 31, 2009. Before submitting the ICR to OMB for review and approval, EPA is soliciting comments on specific aspects of the proposed information collection as described below.

DATES: Comments must be submitted on or before October 14, 2008.

ADDRESSES: Submit your comments, identified by Docket ID No. EPA-HQ-2003-0052, by one of the following methods:

• http://www.regulations.gov: Follow the on-line instructions for submitting comments.

• E-mail: a-and-r-Docket@epa.gov.

• Fax: 202-566-9744.

• Mail: Air Docket, Environmental Protection Agency, Mail code: 2822T, 1200 Pennsylvania Ave., NW., Washington, DC 20460.

• Hand Delivery: Such deliveries are only accepted during the Docket's normal hours of operation, and special arrangements should be made for deliveries of boxed information.

Instructions: Direct your comments to Docket ID No. EPA-HQ-OAR-2003-0052. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Sicy Jacob, Office of Emergency Management, Mail code 5104A, Environmental Protection Agency, 1200 Pennsylvania Ave., NW., Washington, DC 20460; telephone number: 202-564-8019; fax number: 202-564-2625; e-mail address: jacob.sicy@epa.gov.

SUPPLEMENTARY INFORMATION:

How Can I Access the Docket and/or Submit Comments?

EPA has established a public docket for this ICR under Docket ID No. EPA-HQ-OAR-2003-0052 which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply To?

Docket ID No. EPA-HQ-OAR-2003-0052.

Affected entities: Entities potentially affected by this action are chemical manufacturers, petroleum refineries, water treatment systems, non-chemical manufacturers, etc

Title: Risk Management Program Requirements and Petitions to Modify the List of Regulated Substances under Section 112(r) of the Clean Air Act.

ICR number: EPA ICR No. 1656.13, OMB Control No. 2050-0144.

ICR status: This ICR is currently scheduled to expire on January 31, 2009. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The 1990 CAA Amendments added section 112(r) to provide for the prevention and mitigation of accidental releases. Section 112(r) mandates that EPA promulgate a list of “regulated substances” with threshold quantities and establish procedures for the addition and deletion of substances from the list of regulated substances. Processes at stationary sources that contain more than a threshold quantity of a regulated substance are subject to accidental release prevention regulations promulgated under CAA section 112(r)(7). These two rules are codified as 40 CFR part 68. Part 68 requires that sources with more than a threshold quantity of a regulated substance in a process develop and implement a risk management program and submit a risk management plan to EPA. The compliance schedule for the part 68 requirements was established by rule on June 20, 1996. Burden to sources that are currently covered by part 68, for initial rule compliance, including rule familiarization and program implementation was accounted for in previous ICRs. Sources submitted their first RMPs on June 21, 1999. The next compliance deadline for most sources was June 21, 2004, five years after the first submission. Some sources revised and submitted their RMPs between the five-year deadlines. These sources were then assigned a new five-year compliance deadline based on the date of their revised plan submission. The next submission deadline of RMPs for most sources is June 21, 2009. However, as only some regulated entities have a compliance deadline of June 2009, the remaining sources have been assigned a deadline in 2010, 2011, 2012 or 2013 (the last two years are after the period covered by this ICR) based on the date of their most recent submission. The period covered by this ICR includes the regulatory reporting deadline, June 2009. In this ICR, EPA has accounted burden for new sources that may become subject to the regulations, currently covered sources with compliance deadlines in this ICR period (2009 to 2011), sources that are out of compliance since the last regulatory deadline but are expected to comply during this ICR period, and sources that have deadlines beyond this ICR period but are required to comply with certain prevention program documentation requirements.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The public reporting burden will depend on the size of the sources complying with 40 CFR part 68 requirements. In this ICR, the public reporting burden for rule familiarization for new sources is estimated to range from 12 to 32 hours per source. The public reporting burden to prepare and submit a RMP for new sources is estimated to range from 8.25 to 33 hours. The public reporting burden for new sources to develop a prevention program is estimated to range from 7 to 188 hours per source. The public reporting burden for those sources that claim CBI is estimated to be 9.5 hours per source. The public reporting burden for currently covered sources to prepare and submit RMP is estimated to range from 5 to 28 hours. The public record keeping burden to maintain on-site documentation for currently covered sources is estimated to range from 4.5 to 124 hours. The total annual public reporting burden for all sources is 84,729 hours (254,187 hours over three years). The total annual burden estimated for 16 implementing agencies is 9,253 hours (27,759 hours for three years). Therefore, the total annual burden for all sources and states is estimated to be 93,982 hours (281,946 hours for three years).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 13,718 for this ICR period.

Frequency of response: Every five years, unless the facilities need to update their previous submission earlier to comply with a rule requirement.

Estimated total average number of responses for each respondent: one.

Estimated total annual burden hours: 93,982 hours including burden for implementing agencies.

Estimated total annual costs: $9,785,371.00. There are no capital or operating and maintenance costs associated with this ICR since all sources are required to submit RMPs on-line using the new electronic reporting system, RMP e*submit.

There is a decrease of 4,617 hours for all sources and states from the previous ICR. There are two primary reasons for this decrease in burden. First, as explained in section 1 of the supporting statement for this ICR renewal (the supporting statement is available at http://www.regulations.gov), the burden varies from ICR to ICR due to different compliance deadlines based on the sources' RMP re-submission deadlines and other regulatory deadlines. Therefore, the burden increases or decreases each year depending on how many sources have to submit their RMP and comply with certain prevention program requirements. Second, the number of sources subject to the regulations is lower than in the previous ICR (16,634 in the previous ICR and 13,718 sources in this ICR period).

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: August 7, 2008.
Deborah Y. Dietrich,
Director, Office of Emergency Management.

[FR Doc. E8-18840 Filed 8-13-08; 8:45 am]

BILLING CODE 6560-50-P